NATIONAL SCIENCE FOUNDATION

Advisory Panel for Economics, Decision and Management Sciences; Notice of Meetings

In accordance with the Federal Advisory Committee Act (Pub. L. 92-463, as amended), the National Science Foundation (NSF) announces the following five meetings:

Name: Advisory Panel for Economics, Decision, and Management Sciences.

Date/Time: April 20-21, 2001; 9 a.m. to 5 p.m.

Place: National Science Foundation, 4201 Wilson Boulevard, Arlington, VA, Stafford II Conference Center Rooms 517 and 545.

Contact Person: Dr. Daniel H. Newlon, Program Director for Economics Program, National Science Foundation, 4201 Wilson Boulevard, Suite 995, Arlington, VA 22230. Telephone: (703) 292-7276.

Agenda: To review and evaluate Economics proposals as part of the selection process for awards.

Date/Time: April 19-20, 2001; 9 a.m. to 5 p.m.

Place: National Science Foundation, Rooms 920 and 970.

Type of Meeting: Closed.

Contact Person: Dr. Ann Bostrom, Program Director for Decision, Risk & Management Sciences (DRMS) Program, National Science Foundation, 4201 Wilson Boulevard, Suite 995, Arlington, VA 22230. Telephone: (703) 292-7263.

Agenda: To review and evaluate DRMS proposals as part of the selection process for awards.

Dates/Time: March 22-23 and March 26-27, 2001; 9 a.m. to 5 p.m.

Place: Stafford II Conference Center, 4121 Wilson Blvd., Arlington, VA, Rm. 545.

Type of Meeting: Closed.

Contact Person: Dr. Mariann (Sam) Jelinek, Program Director for Innovation and Organizational Change (IOC) Program, National Science Foundation, 4201 Wilson Boulevard, Suite 995, Arlington, VA 22230. Telephone: (703) 292-7273.

Agenda: To review and evaluate IOC proposals as part of the selection process for awards.

Date/Time: April 2-3, 2001; 9 a.m. to 5 p.m.

Place: National Science Foundation, 4201 Wilson Blvd., Arlington, VA. Rooms 920 and 970.

Type of Meeting: Closed.

Contact Person: Dr. Ann Bostrom & Dr. Sandra Schneider, Program Directors for Decision, Risk & Management Sciences Program, National Science Foundation, 4201 Wilson Boulevard, Suite 995, Arlington, VA 22230. Telephone: (703) 292-8761.

Agenda: To review and evaluate DMVEP proposals as part of the selection process for awards.

Type of Meeting: Closed.

Purpose of Meeting: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c) (4) and (6) of the Government in the Sunshine Act.

Dated: March 1, 2001.
Susanne Bolton,
Committee Management Officer.

[FR Doc. 01-5463 Filed 3-6-01; 8:45 am]

BILLING CODE 7555-01-M